OVERSEAS PRIVATE INVESTMENT CORPORATION

Submission for OMB Review

AGENCY: Overseas Private Investment Corporation (OPIC).

ACTION: Notice and request for comments.

SUMMARY: Under the provisions of the Paperwork Reduction Act, agencies are required to publish a Notice in the Federal Register notifying the public that the agency has prepared an information collection for OMB review and approval and has requested public review and comment on the submission. Comments are being solicited on the need for the information; the accuracy of the Agency's burden estimate; the quality, practical utility, and clarity of the information to be collected; and ways to minimize the reporting burden, including automated collected techniques and uses of other forms of technology.

Minor revisions are being made to the legal disclosures and notices on the first page of the form. There are no revisions to the information being collected.

DATES: Comments must be received within 60 calendar-days of publication of this Notice.

ADDRESSES: Direct comments and requests for copies of the subject form to the Agency Submitting Officer: James Bobbitt, Records Manager, Overseas Private Investment Corporation, 1100 New York Avenue NW., Washington, DC 20527.

FOR FURTHER INFORMATION CONTACT: Agency Submitting Officer: James Bobbitt, Records Manager, (202) 336-8558.

SUMMARY FORM UNDER REVIEW:

Type of Request: Renewal of currently approved information collection.

Title: Personal Financial Statement.

Form Number: OPIC-254.

Frequency of Use: Up front—one per individual investor/guarantor per project.

Type of Respondents: Individuals.

Standard Industrial Classification Codes: N/A.

Description of Affected Public: U.S. and foreign citizens investing in projects overseas.

Reporting Hours: 75 hours (1 hour per response).

Number of Responses: 75 per year.

Federal Cost: $4,026.

Authority for Information Collection: Sections 231, 234(a), 239(d), and 240A of the Foreign Assistance Act of 1961, as amended.

Abstract (Needs and Uses): The personal financial statement is supporting documentation to the OPIC application for financing (OPIC-115). The information provided is used by OPIC to determine if individuals who are providing equity investment in or credit support to a project have sufficient financial wherewithal to meet their expected obligations under the proposed terms of the OPIC financing.

Dated: September 20, 2017.
Nichole Skoyles,
Administrative Counsel, Administrative Affairs, Department of Legal Affairs.

[FR Doc. 2017-20506 Filed 9-25-17; 8:45 am]

BILLING CODE P